DEPARTMENT OF DEFENSE

Office of the Secretary

[Docket ID DOD-2020-OS-0057]

Privacy Act of 1974; System of Records

AGENCY: National Reconnaissance Office (NRO), Department of Defense (DoD).

ACTION: Rescindment of a System of Records Notice (SORN).

SUMMARY: The NRO is rescinding a Privacy Act System of Records, “QNRO-30, Technology Fellowship and Enrichment Programs and Events.” This System of Records maintained information on controlling and tracking access for NRO Technology Fellowship and Enrichment Program participants to NRO networks, computer systems, and information technology databases. The System of Records also enabled information systems security officers to access, review, and grant requests for the creation, deletion, or transfer of network accounts to Program participants. The NRO Technology Fellowship and Enrichment Program was discontinued and the supporting information system decommissioned. The records from that system have been destroyed in accordance with the record retention and disposal policy as specified in the SORN.

DATES: This System of Records rescindment is applicable upon publication in the Federal Register.

FOR FURTHER INFORMATION CONTACT: Mr. Mike Lavergne, NRO, Advanced Systems and Technology Directorate, 14675 Lee Road, Chantilly, VA 20151-1715 or by phone at (703) 227-9022 or email, lavergnm@nro.mil.

SUPPLEMENTARY INFORMATION: The NRO Technology Fellowship and Enrichment Program was discontinued. Following the decommissioning of the information system, all records were destroyed in accordance with the records retention and disposal policies as published in the SORN.

The DoD notices for Systems of Records subject to the Privacy Act of 1974 (5 U.S.C. 552a), as amended, have been published in the Federal Register and are available from the address in FOR FURTHER INFORMATION CONTACT or at the Defense Privacy, Civil Liberties and Transparency Division website at https://dpcld.defense.gov.

The proposed system reports, as required by the Privacy Act, as amended, were submitted on May 18, 2020, to the House Committee on Oversight and Reform, the Senate Committee on Homeland Security and Governmental Affairs, and the Office of Management and Budget (OMB) pursuant to Section 6 of OMB Circular No. A-108, “Federal Agency Responsibilities for Review, Reporting, and Publication under the Privacy Act,” revised December 23, 2016 (December 23, 2016, 81 FR 94424).

SYSTEM NAME AND NUMBER:

Technology Fellowship and Enrichment Programs and Events, QNRO-30.

HISTORY:

May 19, 2008, 73 FR 28801.

Dated: June 2, 2020.
Aaron T. Siegel,
Alternate OSD Federal Register Liaison Officer, Department of Defense.

[FR Doc. 2020-12296 Filed 6-5-20; 8:45 am]

BILLING CODE 5001-06-P